DEPARTMENT OF ENERGY

Federal Energy Regulatory Commission

Combined Notice of Filings #1

Take notice that the Commission received the following electric corporate filings:

Docket Numbers: EC17-113-000.

Applicants: TigerGenCo, LLC, Red Oak Power, LLC.

Description: Joint Application of TigerGenCo, LLC, et al. for Authorization Under Section 203 of the Federal Power Act and Requests for Waivers, Confidential Treatment and Expedited Action.

Filed Date: 5/8/17.

Accession Number: 20170508-5202.

Comments Due: 5 p.m. ET 5/30/17.

Take notice that the Commission received the following electric rate filings:

Docket Numbers: ER16-792-002.

Applicants: New Harquahala Generating Company, LLC.

Description: Compliance filing: Compliance Filing to be effective N/A.

Filed Date: 5/8/17.

Accession Number: 20170508-5162.

Comments Due: 5 p.m. ET 5/30/17.

Docket Numbers: ER16-793-002.

Applicants: Talen Montana, LLC.

Description: Compliance filing: Compliance Filing to be effective N/A.

Filed Date: 5/8/17.

Accession Number: 20170508-5159.

Comments Due: 5 p.m. ET 5/30/17.

Docket Numbers: ER16-795-002.

Applicants: Talen Energy Marketing, LLC.

Description: Compliance filing: Compliance Filing to be effective N/A.

Filed Date: 5/8/17.

Accession Number: 20170508-5163.

Comments Due: 5 p.m. ET 5/30/17.

Docket Numbers: ER16-893-002; ER15-1065 002; ER15-1066 002; ER15-1676 002; ER16-1371 003; ER16-1990 002; ER16-892 001; ER17-239 001.

Applicants: 62SK 8ME LLC,63SU 8ME LLC, Balko Wind, LLC, Balko Wind Transmission, LLC, North Star Solar PV LLC, Red Horse III, LLC, Red Horse Wind 2, LLC, TPE Alta Luna, LLC.

Description: Notice of Change in Status of the DESRI MBR Sellers.

Filed Date: 5/8/17.

Accession Number: 20170508-5200.

Comments Due: 5 p.m. ET 5/30/17.

Docket Numbers: ER17-1569-000.

Applicants: ITC Great Plains, LLC.

Description: § 205(d) Rate Filing: License Agreement to be effective7/7/2017.

Filed Date: 5/8/17.

Accession Number: 20170508-5166.

Comments Due: 5 p.m. ET 5/30/17.

Docket Numbers: ER17-1570-000.

Applicants: Midcontinent Independent System Operator, Inc.

Description: Compliance filing: 2017-05-08_Energy Offer Cap Order 831 Final Rule Compliance Filing to be effective 12/1/2017.

Filed Date: 5/8/17.

Accession Number: 20170508-5171.

Comments Due: 5 p.m. ET 5/30/17.

Docket Numbers: ER17-1571-000.

Applicants: Midcontinent Independent System Operator, Inc.

Description: § 205(d) Rate Filing: 2017-05-08_Operating Reserve Demand Curve revisions related to Order 831 to be effective 12/1/2017.

Filed Date: 5/8/17.

Accession Number: 20170508-5173.

Comments Due: 5 p.m. ET 5/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2017.
Kimberly D. Bose,
Secretary.

[FR Doc. 2017-09795 Filed 5-15-17; 8:45 am]

BILLING CODE 6717-01-P